DEPARTMENT OF ENERGY

10 CFR Parts 429 and 431

[Docket No. EERE-2013-BT-STD-0022]

RIN 1904-AD00

Energy Conservation Program: Energy Conservation Standards for Refrigerated Beverage Vending Machines

AGENCY: Office of Energy Efficiency and Renewable Energy, Department of Energy.

ACTION: Reopening of public comment period.

SUMMARY: On August 19, 2015, the U.S. Department of Energy (DOE) published a notice of proposed rulemaking (NOPR) in the Federal Register regarding energy conservation standards for refrigerated beverage vending machines (BVM ECS NOPR). DOE also held a public meeting on September 29, 2015. The comment period was scheduled to end October 19, 2015. After receiving a request for additional time to prepare and submit comments, DOE has decided to reopen the comment period for submitting comments regarding the BVM ECS NOPR. The comment period is reopened through November 23, 2015.

DATES: DOE will accept comments, data, and information in response to the NOPR received no later than November 23, 2015.

ADDRESSES: Any comments submitted must identify the NOPR for Energy Conservation Standards for Refrigerated Beverage Vending Machines, and provide docket number EERE-2013-BT-STD-0022 and/or regulatory information number (RIN) number 1904-AD00. Comments may be submitted using any of the following methods:

1. Federal eRulemaking Portal: www.regulations.gov. Follow the instructions for submitting comments.

2. Email: BVM2013STD0022@ee.doe.gov. Include the docket number EERE-2013-BT-STD-0022 and/or RIN 1904-AD00 in the subject line of the message.

3. Mail: Ms. Brenda Edwards, U.S. Department of Energy, Building Technologies Program, Mailstop EE-5B, 1000 Independence Avenue SW., Washington, DC, 20585-0121. If possible, please submit all items on a CD. It is not necessary to include printed copies.

4. Hand Delivery/Courier: Ms. Brenda Edwards, U.S. Department of Energy, Building Technologies Program, 950 L'Enfant Plaza SW., Suite 600, Washington, DC 20024. Telephone: (202) 586-2945. If possible, please submit all items on a CD. It is not necessary to include printed copies.

Docket: The docket, which includes Federal Register notices, public meeting attendee lists and transcripts, comments, and other supporting documents/materials, is available for review at regulations.gov. All documents in the docket are listed in the regulations.gov index. However, some documents listed in the index, such as those containing information that is exempt from public disclosure, may not be publicly available.

A link to the docket Web page can be found at: [www.regulations.gov/#!docketDetail;D=EERE-2013-BT-STD-0022]. This Web page contains a link to the docket for this notice on the regulations.gov site. The regulations.gov Web page contains instructions on how to access all documents, including public comments, in the docket.

For further information on how to submit a comment or review other public comments and the docket, contact Ms. Brenda Edwards at (202) 586-2945 or by email: Brenda.Edwards@ee.doe.gov.

FOR FURTHER INFORMATION CONTACT: John Cymbalsky, U.S. Department of Energy, Office of Energy Efficiency and Renewable Energy, Building Technologies Program, EE-5B, 1000 Independence Avenue SW., Washington, DC 20585-0121. Telephone: (202) 287-1692. Email John.Cymbalsky@ee.doe.govmailto:.

For legal issues, please contact Ms. Sarah Butler, U.S. Department of Energy, Office of General Counsel, GC-33, 1000 Independence Avenue SW., Washington, DC 20585-0121. Telephone: (202) 586-1777. Email: Sarah.Butler@hq.doe.gov.

SUPPLEMENTARY INFORMATION: On August 19, 2015, DOE published a notice of proposed rulemaking (NOPR) in the Federal Register regarding energy conservation standards for refrigerated beverage vending machines (BVM ECS NOPR). 80 FR 50462. The notice provided for the submission of written comments by October 19, 2015, and oral comments were also accepted at a public meeting held on September 29, 2015.

DOE received a request from several stakeholders requesting additional time to prepare and submit comments (Docket No. EERE-2013-BT-STD-0022, Royal Vendors, No. 46 at p. 1, NAMA, No. 44 at p. 1, and AMS, No. 43 at p. 1). In response to these requests, DOE is reopening the public comment period to allow interested parties to provide DOE with written comments and data in response to the BVM ECS NOPR.

DOE will consider any comments in response to the BVM ECS NOPR received by midnight of November 23, 2015, and deems any comments received by that time to be timely submitted.

Issued in Washington, DC, on October 15. 2015.
Kathleen B. Hogan,
Deputy Assistant Secretary for Energy Efficiency, Energy Efficiency and Renewable Energy.

[FR Doc. 2015-27001 Filed 10-22-15; 8:45 am]

BILLING CODE 6450-01-P